DEPARTMENT OF VETERANS AFFAIRS

38 CFR Part 39

RIN 2900-AH46

State Cemetery Grants

AGENCY: Department of Veterans Affairs.

ACTION: Final rule.

SUMMARY: This final rule amends the Department of Veterans Affairs (VA) regulations governing grants to States to establish, expand, or improve State veterans' cemeteries. The final rule implements a statutory change effected by the Veterans Programs Enhancement Act of 1998, which changed the grant formula from a 50-50 Federal-State matching program to a program that authorizes up to 100 percent Federal funding of certain costs. Additionally, amendments to this rule are necessary to simplify the preapplication process and to establish a system of prioritizing grant applications. Finally, non-substantive changes are necessary for purposes of clarification.

DATES: Effective Date: April 28, 2004.

The incorporation by reference of certain publications in this rule is approved by the Director of the Office of the Federal Register as of April 28, 2004.

FOR FURTHER INFORMATION CONTACT: William Jayne, Director of State Cemetery Grants Service (SCGS), National Cemetery Administration, Department of Veterans Affairs, 810 Vermont Avenue, NW., Washington DC 20420. Telephone: (202) 565-6152 (this is not a toll-free number).

SUPPLEMENTARY INFORMATION: On May 1, 2003, VA published a notice of proposed rulemaking in the Federal Register (68 FR 23249). We proposed to amend VA's regulations governing grants to States to establish, expand, or improve State veterans' cemeteries. We proposed to make numerous changes, which included implementing the statutory increase of up to 100 percent funding of certain costs related to the establishment, expansion, or improvement of a veterans' cemetery, as well as providing for purchase of initial operating equipment by the States for establishment grants. Additionally, we proposed to establish a system of prioritization at the preapplication stage, as VA anticipates increased participation by the States in the State Cemetery Grant Program (SCGP).

We provided a 60-day comment period that ended June 30, 2003. We received seven comments: four from State veterans' cemetery officials; one from a State department of veterans affairs official; one from the National Fire Protection Association, and one from the International Association of Plumbing and Mechanical Officials. These comments are discussed below.

Based on the rationale set forth in the proposed rule and in this document, we adopt the provisions of the proposed rule as a final rule with changes explained below.

Master Plan

One commenter suggested that a Master Plan be submitted during the preapplication process for new and existing cemeteries to show the proposed layout of all facilities for a selected site.

To minimize the financial burden on States, the State Cemetery Grants Service does not require States to fund a Master Plan as part of the preapplication. This reduces the monetary outlay by the State prior to the approval of a preapplication. Office of Management and Budget (OMB) Circular A-102, Grants and Cooperative Agreements with State and Local Governments, requires a preapplication for construction grants to “discourage any proposals that have little or no chance for Federal funding before applicants incur significant costs in preparing detailed applications.” Therefore, VA will not change the criteria to require submission of a Master Plan with the preapplication.

Funding

One commenter questioned how the States would obtain funding for the Environmental Assessment. The proposed regulation indicated that the Environmental Assessment was required under the preapplication requirements.

We have modified this section to provide that, as part of the preapplication requirements under § 39.6, the State must provide written assurances that it will prepare an Environmental Assessment and certify that funds are available to finance any costs related to the Environmental Assessment. A significant outlay of funds is not required by the State prior to approval of the preapplication. Although the actual Environmental Assessment is not required as part of the preapplication, under § 39.10(b), an Environmental Assessment will be required prior to submission of the application.

The same commenter voiced concern about how initial planning and design costs would be funded by the State and contended that there should be some source of Federal funding provided for project design.

States are required to commit funding to the planning and design of a project in order to demonstrate their commitment to building the facility and providing service to veterans. The State is required to supply the initial costs of meeting all requirements for grant award. Federal funds are awarded after all requirements have been met and the project is ready for construction. Following award of the grant, most of the initial costs incurred by the State are eligible for reimbursement.

Priority List

We received several comments related to the priority list requirements in proposed § 39.7. First, two commenters from State veterans' cemeteries expressed their concern about initially funding projects or developing a proposal in the preapplication phase, when they have little assurance the site selected for a proposed new State veterans' cemetery will rank high enough for grant approval. They point out that States may be unwilling to risk dedicating funds to analyze and develop a particular site without a high probability that the State will be reimbursed under an approved grant. It should be noted once again that the preapplication phase does not require a large State investment. Technical assistance from the State Cemetery Grants Service is available to help determine how well the project can compete with other proposals, which is one of the purposes of requiring a preapplication (OMB Circular A-102).

Second, another commenter presented concerns that within Priorities 1, 2, and 3, a State's preapplication will be ranked based on the greatest number of veterans who will benefit from the project as determined by VA. The commenter was concerned that a project in a remote location with a reduced veteran population would be at a disadvantage compared to projects in more densely populated locations.

VA has completed three Congressionally mandated reports—in 1987, 1994, and 2002—which identified the areas of greatest need for new veteran cemeteries. These reports were mandated pursuant to section 412 of Public Law 99-576, Veterans' Benefits Improvement and Health-Care Authorization Act of 1986, and section 613 of Public Law 106-117, Veterans Millennium HealthCare and Benefits Act (1999). These reports were based on veteran demographic data. A goal of VA is to continue to increase the number of veterans residing in the United States who have a burial option in a national or State veterans' cemetery within 75 miles of their residence. The prioritization system contained in these regulations is consistent with that goal.

Third, one commenter expressed concerns that projects categorized in Priority Group 4 (projects to improve existing facilities such as buildings and roads) may never receive a grant when new applications received in Priority Groups 1, 2, and 3 are reprioritized each year. While VA recognizes the importance of improvement projects, projects to provide more gravesites for veterans and their families or projects that are required to continue interment operations are considered a higher priority.

One commenter noted that a State's approved preapplication may remain low on the priority list when all preapplications are reprioritized annually if its veteran population is relatively low. Therefore, the commenter recommended that the SCGS should rank new preapplications behind the preapplications that were prioritized the previous year.

It should be noted that while SCGS ranks the preapplications on an annual basis, not all proposed State projects will be ready for funding during the following year since each project must meet specific requirements before the actual grant is awarded. For example, a preapplication for a project to establish a new cemetery in a significant population center may be submitted and placed high on the priority list, but the project would not be able to receive Federal funding until it was ready to award a construction contract. Such a project would not prevent funding for improvement projects that are ready to award a construction contract if sufficient funds are available.

One commenter recommended that VA develop a database that analyzes or ranks each county in the nation according to its priority for a grant. Implementing this recommendation would be extremely costly and resource intensive. VA already provides a database of the veteran population according to county at http://www.va.gov/vetdata/census2000/index.htm. To assist States, SCGS will provide a paper copy of a current priority list upon request. SCGS can also provide technical assistance to gauge the need for projects to establish new cemeteries prior to submittal of a preapplication.

Facilities/Buildings

One commenter questioned why, in § 39.15(b)(4), non-fixed equipment is precluded under the grant payment as part of an expansion or improvement grant.

By law, the cost of equipment necessary for operation of the State cemetery will be included in a grant only if it is part of a project to establish a new cemetery. See 38 U.S.C. 2408(b)(1)(A). For expansion and improvement grants, we are interpreting 38 U.S.C. 2408(b)(1)(B) as authorizing Federal funding for equipment only if that equipment is permanently affixed to a building or connected to the heating, ventilating, air conditioning, or other service distributed through a building via ducts, pipes, wires, or other connecting device, such as kitchen and intercommunication equipment, built-in cabinets, and equipment lifts.

Two commenters asked why a “chapel” or fully enclosed, climate-controlled, committal-service building is not included in the amount of grants, and why chapels cannot be combined with either an administrative building or an information center.

In operating 120 national cemeteries, VA has found enclosed committal-service facilities or “chapels,” including those combined within another building, to be costly to build, difficult to maintain, and not necessary for program operations because an open shelter is sufficient for a brief committal service, similar to a graveside service at a private cemetery. VA does not believe that enclosed committal-service facilities are the best use of limited funds. These types of facilities are not constructed at new national cemeteries. We have amended proposed § 39.15(c)(6) to clarify that a grant cannot be awarded for a freestanding chapel or a chapel that may be built as part of an administrative building or an information center.

One commenter asked that air conditioning be allowed in the maintenance/service building in geographical areas that require it. It was not the intent of VA to exclude air conditioning. Section 39.21 has been revised to clarify that air conditioning is not excluded in appropriate areas of a maintenance building.

Another commenter recommended that VA specify the approximate net square feet to be allowed for the committal service shelter and public information center in § 39.21(d) and (e), respectively.

The State Cemetery Grant Program will retain flexibility for these facilities since the requirements can be addressed in many different ways including consolidation within, adjacent to, or near other structures. Technical assistance may be obtained from SCGS staff as needed.

Another commenter noted that while the square footage requirements for specific rooms were removed from the space criteria requirements in § 39.21, the space criteria requirements for support facilities in general were still included. The commenter suggested that square footage standards for administrative buildings and maintenance buildings should be based on ten-year projections and that the standards in § 39.21(a) and (b) should be increased to 3,000 and 5,000 square feet, respectively.

To allow flexibility to the States, square footage for buildings is provided, but not for rooms. The criteria provided in § 39.21(a), (b) and (c), are to be used as a guide for planning. It is not reasonable to construct buildings that may be expanded every ten years. The larger-sized buildings are often not necessary, although the regulations allow enough flexibility to construct large facilities if the projected workload and staffing plans justify such development. If required, technical assistance may be obtained from SCGS staff.

One commenter asked that specific criteria be established in § 39.21(f) for the use of preplaced, outer burial receptacles or other support facilities such as columbaria, preplaced graveliners (or crypts), or garden niches.

VA's experience has shown that there are too many variables and unique features at each cemetery to establish strict criteria for interment structures. SCGS staff will provide technical assistance and respond to these requirements on an individual basis.

In response to a comment related to space criteria for support facilities, we have corrected an erroneous reference in proposed § 39.21(f).

Administration

One commenter indicated that information about the new electronic payment program through the Department of Health and Human Services (HHS) should be included in the rule. OMB, in accordance with section 6 of Public Law 106-107, Federal Financial Assistance Management Improvement Act of 1999, has directed that grant payment systems be consolidated to increase efficiency. To this end, SCGS has chosen the Department of Health and Human Services Payment Management System, an internet-based system that is efficient and user-friendly. Training is provided for this system; in addition, if required, specific information related to the electronic payment program may be obtained from SCGS staff. Thus, it is not necessary to include this information in the rule.

One commenter requested that the forms included in § 39.26 be listed in chronological order of use, from preapplication through final grant application and construction. The current numerical order of the forms in § 39.26 will be retained, however, because many readers will be unfamiliar with the process and numerical order will facilitate the reader's ability to locate specific forms more readily.

Clarifications

We have modified § 39.5(a) by removing a reference to “wives” and “husbands” and replacing those terms with the term “spouses.” The term “spouse” is defined in 38 U.S.C. 101(31).

We have modified § 39.8, Plan Preparation, to clarify that the State can proceed with the process of receiving construction bids once plans and specifications have been reviewed and approved by the SCGS.

Additionally, in light of comments received from the National Fire Protection Association and the International Association of Plumbing and Mechanical Officials, we have modified § 39.22, Architectural Design Standards, to incorporate by reference the most current code references to include: the 2003 edition of the National Fire Protection Association Life Safety Code, NFPA 101; the 2003 edition of the Uniform Plumbing Code; the 2003 edition of the NFPA 5000, Building Construction and Safety Code; and the NFPA 70, National Electrical Code, 2002 edition (NEC 2002 Code). We have also added a reference to the 2003 edition of the Uniform Mechanical Code.

Finally, we are correcting a typographical error in the cross-reference found in paragraph (a)(2) of § 39.22.

Paperwork Reduction Act

Although this document contains provisions constituting a collection of information, at 38 CFR 39.6, 39.10, 39.16, 39.17, 39.25 and 39.26 under the provisions of the Paperwork Reduction Act (44 U.S.C. 3501-3521), no new or proposed revised collections of information are associated with this final rule. The information collection requirements for §§ 39.6, 39.10, 39.16, 39.17, 39.25 and 39.26 are currently approved by the Office of Management and Budget (OMB) and have been assigned OMB control numbers 0348-0002, 0348-0043, 0348-0041, 0348-0042, and 2900-0559.

Executive Order 12866

This document has been reviewed by the Office of Management and Budget under Executive Order 12866.

Regulatory Flexibility Act

The Secretary hereby certifies that this final rule will not have a significant economic impact on a substantial number of small entities as they are defined in the Regulatory Flexibility Act, 5 U.S.C. 601-612. Only individual VA beneficiaries could be directly affected. Therefore, pursuant to 5 U.S.C. 605(b), this final rule is exempt from the initial and final regulatory flexibility analyses requirements of sections 603 and 604.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule will have no such effect on State, local, or tribal governments, or the private sector.

Catalog of Federal Domestic Assistance Program Number

The Catalog of Federal Domestic Assistance Program Number for this document is 64.203.

List of Subjects in 38 CFR Part 39

Cemeteries, Grant programs—veterans, Incorporation by reference, Veterans.

Approved: January 20, 2004.
Anthony J. Principi,
Secretary of Veterans Affairs.

For the reasons set out in the preamble, 38 CFR part 39 is revised to read as follows:

PART 39—AID TO STATES FOR ESTABLISHMENT, EXPANSION, AND IMPROVEMENT OF VETERANS' CEMETERIES

Subpart A—General Provisions
Sec.
39.1 Purpose.
39.2 Definitions.
39.3 Decisionmakers, notifications, and additional information.
39.4 Submissions of information and documents to VA.
Subpart B—Grant Requirements and Procedures
39.5 General requirements for a grant.
39.6 Preapplication requirements.
39.7 Priority list.
39.8 Plan preparation.
39.9 Conferences.
39.10 Application requirements.
39.11 Final review and approval of application.
39.12 Hearings.
39.13 Amendments to application.
39.14 Withdrawal of application.
Subpart C—Award of Grant
39.15 Amount of grant.
39.16 Line item adjustment to grant.
39.17 Payment of grant award.
39.18 Recapture provisions.
Subpart D—Standards and Requirements for Project
39.19 General requirements for site selection and construction of veterans' cemeteries.
39.20 Site planning standards.
39.21 Space criteria for support facilities.
39.22 Architectural design standards.
Subpart E—Responsibilities, Inspections, and Reports Following Project Completion
39.23 Responsibilities following project completion.
39.24 State to retain control of operations.
39.25 Inspections, audits, and reports.
Subpart F—Forms
39.26 Forms.

Authority: 38 U.S.C. 101, 501, 2408.

Subpart A—General Provisions

§ 39.1 Purpose.

This part sets forth the mechanism for a State to obtain a grant to establish, expand, or improve veterans' cemeteries that are or will be owned by the State.

(Authority: 38 U.S.C. 501, 2408.)

§ 39.2 Definitions.

For the purpose of this part:

(a) Establishment means the process of site selection, land acquisition, design and planning, earthmoving, landscaping, construction and provision of initial operating equipment necessary to convert a tract of land to an operational veterans' cemetery.

(b) Expansion means an increase in the burial capacity or acreage of an existing cemetery through the addition of gravesites and other cemeterial facilities.

(c) Improvement means the enhancement of a cemetery through landscaping, nonrecurring maintenance, or addition of other features appropriate to cemeteries.

(d) Establishment, expansion and improvement include the installation of facilities necessary for the functioning of the cemetery, such as committal-service shelters, crypts (preplaced grave liners), and columbaria.

(e) Time-phased development plan means a detailed, narrative description of the proposed site's characteristics, schedule for development, and estimates of costs by phases of construction.

(f) Project means an undertaking to establish, expand, or improve a specific site for use as a State-owned veterans' cemetery.

(g) State means each of the States, Territories, and possessions of the United States, the District of Columbia, and the Commonwealth of Puerto Rico.

(h) Veteran means a person who served in the active military, naval, or air service and who died while in service or was discharged or released under conditions other than dishonorable.

(i) Secretary means the Secretary of the United States Department of Veterans Affairs.

(j) VA means the United States Department of Veterans Affairs.

(k) State Cemetery Grants Service (SCGS) means the State Cemetery Grants Service within VA's National Cemetery Administration.

(Authority: 38 U.S.C. 101, 501, 2408.)

§ 39.3 Decisionmakers, notifications, and additional information.

Decisions required under this part will be made by the Director, State Cemetery Grants Service, National Cemetery Administration, unless otherwise specified in this part. The VA decisionmaker will provide written notice to affected States of approvals, denials, or requests for additional information under this part.

(Authority: 38 U.S.C. 501, 2408.)

§ 39.4 Submissions of information and documents to VA.

All information and documents required to be submitted to VA must be submitted, unless otherwise specified under this part, to the Director of State Cemetery Grants Service, National Cemetery Administration, Department of Veterans Affairs, 810 Vermont Avenue, NW., Washington, DC 20420.

(Authority: 38 U.S.C. 501, 2408.)

Subpart B—Grant Requirements and Procedures

§ 39.5 General requirements for a grant.

(a) In order to qualify for a grant, a State veterans' cemetery must be operated solely for the interment of veterans, their spouses, surviving spouses, minor children, and unmarried adult children who were physically or mentally disabled and incapable of self-support.

(b) For a State to obtain a grant under this part for the establishment, expansion, or improvement of a State veterans' cemetery:

(1) Its preapplication for the grant must be approved under § 39.6;

(2) Its project must be ranked sufficiently high on the priority list in § 39.7 for the current fiscal year so that funds are available for the project;

(3) Its plans and specifications for the project must be approved under § 39.8;

(4) The State must meet the application requirements in § 39.10; and

(5) Other requirements specified in §§ 39.9 and 39.13 must be satisfied.

(c) VA may approve under § 39.11 any application up to the amount of the grant requested once the requirements under paragraph (b) of this section have been satisfied, provided that sufficient funds are available. In determining whether sufficient funds are available, VA shall consider the project's priority ranking, the total amount of funds available for cemetery grant awards during the applicable fiscal year, and the prospects of higher ranking projects being ready for the award of a grant before the end of the applicable fiscal year.

(Authority: 38 U.S.C. 501, 2408.)

§ 39.6 Preapplication requirements.

(a) A State seeking a grant for the establishment, expansion, or improvement of a veterans' cemetery must submit a preapplication if the State seeks more than $100,000.

(b) No detailed drawings, plans, or specifications are required with the preapplication. As a part of the preapplication, the State must submit each of the following:

(1) Standard Form 424 (“Face Sheet”) and Standard Form 424C (“Budget Information”) signed by the authorized representative of the State. These forms document the amount of the grant requested, which may not exceed 100 percent of the estimated cost of the project to be funded with the grant.

(2) A program narrative describing the objectives of the project, the need for a grant, the method of accomplishment, the projected interment rate, and the results or benefits expected to be obtained from the assistance requested.

(3) If a site has been selected, a description of the geographic location of the project (i.e., a map showing the location of the project and all appropriate geographic boundaries, and any other supporting documentation, as needed).

(4) A design concept describing the major features of the project including the number and types of gravesites, such as columbarium niches.

(5) Any comments or recommendations made by the State's “Single Point of Contact” reviewing agency.

(c) In addition, the State must submit written assurance that:

(1) Any cemetery established, expanded, or improved through a grant will be used exclusively for the interment of eligible persons as set forth in § 39.5(a).

(2) Title to the site is or will be vested solely in the State.

(3) It possesses legal authority to apply for the grant, and to finance and construct the proposed facilities; i.e., legislation or similar action has been duly adopted or passed as an official act of the applicant's governing body, authorizing the filing of the application, including all understandings and assurances contained therein, and directing and authorizing the person identified as the official representative of the State to act in connection with the application and to provide such additional information as may be required.

(4) Any cemetery established, expanded, or improved through a grant will be maintained and operated in accordance with the operational standards and measures of the National Cemetery Administration.

(5) It will assist VA in assuring that the grant complies with section 106 of the National Historic Preservation Act of 1966, as amended (16 U.S.C. 470), Executive Order 11593 (identification and protection of historic properties), and the Archaeological and Historic Preservation Act of 1974 (16 U.S.C. 469a-1 et seq.).

(6) It will obtain approval by VA of the final construction drawings and specifications before the project is advertised or placed on the market for bidding; it will construct the project, or cause it to be constructed, to completion in accordance with the application and approved plans and specifications; it will submit to the Director of the State Cemetery Grants Service, for prior approval, changes that alter the costs of the project, use of space, or functional layout; and it will not enter into a construction contract(s) for the project or undertake other activities until the conditions of the grant program have been met.

(7) It will comply with the Federal requirements in 38 CFR parts 43 and 44 and submit Standard Form 424D (“Assurances—Construction Programs”).

(8) It will prepare an Environmental Assessment to determine whether an Environmental Impact Statement is necessary, and certify that funds are available to finance any costs related to preparation of the Environmental Assessment.

(d) The State must submit a copy of the legislation, as enacted into law, authorizing the establishment, maintenance and operation of the facility as a veterans' cemetery in accordance with 38 CFR 39.5(a).

(e) Upon receipt of a preapplication for a grant, including all necessary assurances and all required supporting documentation, VA shall determine whether the preapplication conforms to all requirements listed in paragraphs (a) through (d) of this section, including whether it contains sufficient information necessary to establish the project's priority. VA will notify the State of any nonconformity. If the preapplication does conform, VA shall notify the State that the preapplication has been found to meet the preapplication requirements, and the proposed project will be included in the next scheduled ranking of projects, as indicated in § 39.7(d).

(Authority: 38 U.S.C. 501, 2408.)

(The Office of Management and Budget has approved the information collection requirements in this section under control numbers 0348-0043, 0348-0041; 0348-0042.)

§ 39.7 Priority list.

(a) The priority groups, with Priority Group 1 having the highest priority and Priority Group 4 the lowest priority, are:

(1) Priority Group 1—Projects needed to avoid disruption in burial service that would otherwise occur at existing veterans' cemeteries within 4 years of the date of the preapplication. Such projects would include expansion projects as well as improvement projects (such as construction of additional or replacement facilities) when such improvements are required to continue interment operations.

(2) Priority Group 2—Projects for the establishment of new veterans' cemeteries.

(3) Priority Group 3—Expansion projects at existing veterans' cemeteries when a disruption in burial service due to the exhaustion of existing gravesites is not expected to occur within 4 years of the date of the preapplication.

(4) Priority Group 4—Other improvement projects to cemetery infrastructure such as building expansion and upgrades to roads and irrigation systems that are not directly related to the development of new gravesites.

(b) Within Priority Groups 1, 2, and 3, highest priority will be given to projects in geographical locations with the greatest number of veterans who will benefit from the project as determined by VA. This prioritization system, based on veteran population data, will assist VA in maintaining and improving access to burial in a veterans cemetery to more veterans and their eligible family members. Within Priority Group 1, at the discretion of VA, higher priority may be given to a project that must be funded that fiscal year to avoid disruption in burial service.

(c) Within Priority Group 4, projects will be ranked in priority order based upon VA's determination of the relative importance and necessity to operations of the proposed improvements.

(d) By August 15 of each year, VA will make a list prioritizing the preapplications that were received on or before July 1 of that year and that were approved under § 39.6, ranking them in their order of priority for funding during the fiscal year that begins the following October 1. Preapplications from previous years will be re-prioritized each year.

(Authority: 38 U.S.C. 501, 2408.)

§ 39.8 Plan preparation.

The State must prepare plans and specifications in accordance with the requirements of this section for review by the SCGS. The plans and specifications must be approved by the SCGS prior to the State's solicitation for construction bids. Once SCGS grants approval, the State must obtain construction bids and determine the successful bidder prior to submission of the application. The State must establish procedures for determining that costs are reasonable, necessary and allocable in accordance with the provisions of Office of Management and Budget (OMB) Circular No. A-87. Once the preapplication and the project's plans and specifications have been approved, an application for assistance must be submitted in compliance with the uniform requirements for grants-in-aid to State and local governments prescribed by Office of Management and Budget Circular No. A-102, Revised.

(a) General. These requirements have been established for the guidance of the State agency and the design team to provide a standard for preparation of drawings, specifications and estimates.

(b) Technical requirements. The State should meet these technical requirements as soon as possible after VA approves the preapplication.

(1) Boundary and site survey. The State agency shall provide a survey of the site and furnish a legal description of the site. A boundary and site survey need not be submitted if one was submitted for a previously approved project and there have been no changes. Relevant information may then be shown on the site plan. If required, the survey shall show:

(i) The outline and location referenced to boundaries, of all existing buildings, streets, alleys (whether public or private), block boundaries, easements, encroachments, the names of streets, railroads and streams, and other information as specified. If there is nothing of this character affecting the property, the Surveyor shall so state on the drawings.

(ii) The point of beginning, bearing, distances, and interior angles. Closure computations shall be furnished with the survey and error of closure shall not exceed 1 foot for each 10,000 feet of lineal traverse. Boundaries of an unusual nature (curvilinear, off-set, or having other change or direction between corners) shall be referenced with curve data (including measurement chord) and other data sufficient for replacement and such information shall be shown on the map. For boundaries of such nature, coordinates shall be given for all angles and other pertinent points.

(iii) The area of the parcel in acres or in square feet.

(iv) The location of all monuments.

(v) Delineation of 100-year floodplain and source.

(vi) The signature and certification of the Surveyor.

(2) Soil investigation. The State shall provide a soil investigation of the scope necessary to ascertain site characteristics for construction and burial or to determine foundation requirements and utility service connections. A new soil investigation is not required if one was done for a previously approved project on the same site and information contained is adequate and unchanged. Soil investigation, when done, shall be documented in a signed report. Adequate investigation shall be made to determine the subsoil conditions. The investigation shall include a sufficient number of test pits or test borings as will determine, in the judgment of the architect, the true conditions. The following information will be covered in the report:

(i) Thickness, consistency, character, and estimated safe bearing value where needed for structural foundation design of the various strata encountered in each pit or boring.

(ii) Amount and elevation of ground water encountered in each pit or boring, its probable variation with the seasons, and effect on the subsoil.

(iii) The elevation of rock, if known, and the probability of encountering quicksand.

(iv) If the site is under laid with mines, the elevations and location of the tops of the mine workings relative to the site, or old workings located in the vicinity.

(3) Topographical survey. A topographical survey in 1-foot contour intervals shall be prepared for projects establishing new cemeteries and for significant expansion projects in previously undeveloped land.

(c) Master plan. A master plan showing the proposed layout of all facilities—including buildings, roadways and burial sections—on the selected site shall be prepared for all new cemetery establishment projects for approval by the SCGS. If the project is to be phased into different year programs, the phasing shall be indicated. The master plan shall analyze all factors affecting the design, including climate, soil conditions, site boundaries, topography, views, hydrology, environmental constraints, transportation access, etc. It should provide a discussion of alternate designs that were considered. In the case of an expansion or improvement project, the work contemplated should be consistent with the VA-approved master plan or a justification for the deviation should be provided.

(d) Preliminary or “design development” drawings. Following VA approval of the master plan, the State must submit design development drawings that show all current phase construction elements to be funded by the grant. The drawings must comply with the following requirements:

(1) Site development and environmental plans must include locations of structures, demolition, parking, roads, service areas, walks, plazas, memorial paths, other paved areas, landscape buffer and major groupings, interment areas (including quantity of gravesites in each area). A grading plan including existing and proposed contours at 1-foot intervals of the entire area affected by the site work must be submitted. A site plan of the immediate area around each building shall be drawn to a convenient scale and shall show the building floor plan, utility connections, walks, gates, walls or fences, flagpoles, drives, parking areas, indication of handicapped provisions, landscaping, north arrow and any other appropriate items.

(2) Floor plans of all levels at a convenient scale shall be double line drawings and shall show overall dimensions, construction materials, door swings, names and square feet for each space, toilet room fixtures and interior finish schedule.

(3) Elevations of the exteriors of all buildings shall be drawn to the same scale as the plan and shall include all material indications.

(4) Preliminary mechanical and electrical layout plans shall be drawn at a convenient scale and shall have an equipment and plumbing fixture schedule.

(e) Final construction drawings and specifications. Funds for the construction of any project being assisted under this program will not be released until VA approves the final construction drawings and specifications. If VA approves them, VA shall send the State a written letter of approval indicating the project complies with the terms and conditions as prescribed by VA, but this does not constitute approval of the contract documents. It is the responsibility of the State to ascertain that all State and Federal requirements have been met and that the drawings and specifications are acceptable for bid purposes.

(1) The State shall prepare final working drawings so that clear and distinct prints may be obtained. These drawings must be accurately dimensioned to include all necessary explanatory notes, schedules and legends. Working drawings shall be complete and adequate for VA review and comment. The State shall prepare separate drawings for each of the following types of work: architectural, equipment, layout, structural, heating and ventilating, plumbing, and electrical.

(2) Architectural drawings. The State shall submit drawings which include: All structures and other work to be removed; all floor plans if any new work is involved; all elevations, which are affected by the alterations; building sections; demolition drawings; all details to complete the proposed work and finish schedules; and fully dimensioned floor plans at ⅛″ or ¼″ scale.

(3) Equipment drawings. The State shall submit a list of all equipment to be provided under terms of the grant in the case of an establishment project. Large-scale drawings of typical special rooms indicating all fixed equipment and major items of furniture and moveable equipment shall be included.

(4) Layout drawings. The State shall submit a layout plan that shows:

(i) All proposed features such as roads, buildings, walks, utility lines, burial layout, etc.

(ii) Contours, scale, north arrow, legend showing existing trees.

(iii) A graphic or keyed method of showing plant types as well as quantities of each plant.

(iv) Plant list with the following: Key, quantity, botanical name, common name, size and remarks.

(v) Typical tree and shrub planting details.

(vi) Areas to be seeded or sodded.

(vii) Areas to be mulched.

(viii) Gravesite section layout with permanent section monument markers and lettering system.

(ix) Individual gravesite layout and numbering system. If the cemetery is existing and the project is expansion or renovation, show available, occupied, obstructed and reserved gravesites.

(x) Direction the headstone faces.

(5) Structural drawings. The State shall submit complete foundation and framing plans and details, with general notes to include: Governing code, material strengths, live loads, wind loads, foundation design values, and seismic zone.

(6) Mechanical drawings. The State shall submit:

(i) Heating and ventilation drawings showing complete systems and details of air conditioning, heating, ventilation and exhaust; and

(ii) Plumbing drawings showing sizes and elevations of soil and waste systems, sizes of all hot and cold water piping, drainage and vent systems, plumbing fixtures, and riser diagrams.

(7) Electrical drawings. The State shall submit separate drawings for lighting and power, including drawings of:

(i) Service entrance, feeders and all characteristics;

(ii) All panel, breaker, switchboard and fixture schedules;

(iii) All lighting outlets, receptacles, switches, power outlets and circuits; and

(iv) Telephone layout, fire alarm systems and emergency lighting.

(8) Final specifications (to be used for bid purposes) shall be in completed format. Specifications shall include the invitations for bids, cover or title sheet, index, general requirements, form of bid bond, form of agreement, performance and payment bond forms, and sections describing materials and workmanship in detail for each class of work.

(9) The State shall show in convenient form and detail the estimated total cost of the work to be performed under the contract including provisions of fixed equipment shown by the plans and specifications, if applicable, to reflect the changes of the approved financial plan. Estimates shall be summarized and totaled under each trade or type of work. Estimates shall also be provided for each building structure and other important features such as the assembly area and include burial facilities.

(Authority: 38 U.S.C. 501, 2408.)

§ 39.9 Conferences.

(a) Predesign conference. A predesign conference is required for all major construction projects primarily to ensure that the State agency becomes oriented to VA procedures and requirements plus any technical comments pertaining to the project. These conferences will take place at an appropriate location near the proposed site and should include a site visit to ensure that all parties to the process, including NCA staff, are familiar with the site and its characteristics.

(b) Additional conferences. At any time, VA may recommend an additional conference (such as a design development conference) be held in VA Central Office in Washington, DC, to provide an opportunity for the State and its architects to discuss requirements for a grant with VA officials.

(Authority: 38 U.S.C. 501, 2408.)

§ 39.10 Application requirements.

(a) For a project to be considered for grant funding under this part, the State must submit an application (as opposed to a preapplication) consisting of the following:

(1) Standard Form 424 (“Face Sheet”) with the box labeled “application” marked;

(2) Standard Form 424C (“Budget Information”), which documents the amount of funds requested based on the construction costs as estimated by the successful construction bid;

(3) A copy of itemized bid tabulations (If there are non-VA participating areas, these shall be itemized separately.); and

(4) Standard Form 424D (“Assurances—Construction Program”).

(Authority: 38 U.S.C. 501, 2408)

(b) Prior to submission of the application, the State must submit a copy of an Environmental Assessment to determine if an Environmental Impact Statement is necessary for compliance with section 102(2)(C) of the National Environmental Policy Act of 1969, as amended (42 U.S.C. 4332). The Environmental Assessment must briefly describe the project's possible beneficial and harmful effects on the following impact categories:

(1) Transportation,

(2) Air quality,

(3) Noise,

(4) Solid waste,

(5) Utilities,

(6) Geology (Soils/Hydrology/Floodplains),

(7) Water quality,

(8) Land use,

(9) Vegetation, Wildlife, Aquatic, Ecology/Wetlands, etc.,

(10) Economic activities,

(11) Cultural resources,

(12) Aesthetics,

(13) Residential population,

(14) Community services and facilities,

(15) Community plans and projects, and

(16) Other.

(c) If an adverse environmental impact is anticipated, the State must explain what action will be taken to minimize the impact. The assessment shall comply with the requirements of the National Environmental Policy Act of 1969, as amended (42 U.S.C. 4321 et seq.).

(The Office of Management and Budget has approved the information collection requirements in this section under control numbers 0348-0043; 0348-0041; 0348-0042.)

§ 39.11 Final review and approval of application.

Following VA approval of bid tabulations and cost estimates, the complete grant application will be reviewed for approval in accordance with the requirements of § 39.5. If the application is approved, the grant will be awarded by a Notification of Award of Federal Grant Funds.

(Authority: 38 U.S.C. 501, 2408.)

§ 39.12 Hearings.

(a) No application for a grant to establish, expand, or improve a State veterans' cemetery shall be disapproved until the applicant has been afforded an opportunity for a hearing.

(b) Whenever a hearing is requested under this section, notice of the hearing, procedure for the conduct of such hearing, and procedures relating to decisions and notices shall accord with the provisions of §§ 18.9 and 18.10 of this chapter. Failure of an applicant to request a hearing under this section or to appear at a hearing for which a date has been set shall be deemed to be a waiver of the right to be heard and constitutes consent to the making of a decision on the basis of such information as is available.

(Authority: 38 U.S.C. 501, 2408.)

§ 39.13 Amendments to application.

Any amendment of an application that changes the scope of the application or increases the cost of the grant requested, whether or not the application has already been approved, shall be subject to approval in the same manner as an original application.

(Authority: 38 U.S.C. 501, 2408.)

§ 39.14 Withdrawal of application.

A State representative may withdraw an application by submitting to VA a written document requesting withdrawal.

(Authority: 38 U.S.C. 501, 2408.)

Subpart C—Award of Grant

§ 39.15 Amount of grant.

(a) The amount of a grant awarded under this part may not exceed 100 percent of the total cost of the project, but may be less than that amount.

(b) The total cost of a project under this part may include:

(1) Administration and design costs, e.g., architectural and engineering fees, inspection fees, and printing and advertising cost.

(2) The cost of cemetery features, e.g., entry features, flag plaza and assembly areas, columbarium, preplaced liners or crypts, irrigation, committal-service shelters, and administration/maintenance buildings.

(3) In the case of an establishment grant, the cost of equipment necessary for the operation of the State cemetery. This may include the cost of non-fixed equipment such as grounds maintenance equipment, burial equipment, and office equipment.

(4) In the case of an improvement or expansion grant, the cost of equipment necessary for operation of the State cemetery, but only if:

(i) Included in the construction contract;

(ii) Installed during construction; and

(iii) Permanently affixed to a building or connected to the heating, ventilating, air conditioning, or other service distributed through a building via ducts, pipes, wires, or other connecting device, such as kitchen and intercommunication equipment, built-in cabinets, and equipment lifts.

(5) A contingency allowance not to exceed five percent of the total cost of the project for new construction or eight percent for renovation projects.

(c) The total cost of a project under this part may not include the cost of:

(1) Land acquisition;

(2) Building space that exceeds the space guidelines specified in this part;

(3) Improvements not on cemetery land, such as access roads or utilities;

(4) Maintenance or repair work;

(5) Office supplies or consumable goods (such as fuel and fertilizer) which are routinely used in a cemetery; or

(6) Fully enclosed, climate-controlled, committal-service facilities, freestanding chapels or chapels that are part of an administrative building or information center.

(d) VA shall certify approved applications to the Secretary of the Treasury in the amount of the grant, and shall designate the appropriation from which it shall be paid. Funds paid for the establishment, expansion, or improvement of a veterans' cemetery must be used solely for carrying out approved projects.

(Authority: 38 U.S.C. 501, 2408.)

§ 39.16 Line item adjustment to grant.

After a grant has been awarded, upon request from the State representative, VA may approve a change in a line item (line items are identified in Standard Form 424C, which is set forth in § 39.26(c)) of up to 10 percent (increase or decrease) of the cost of the line item if the change would be within the scope or objective of the project and would not change the amount of the grant.

(Authority: 38 U.S.C. 501, 2408.)

(The Office of Management and Budget has approved the information collection requirements in this section under control number 0348-0041.)

§ 39.17 Payment of grant award.

The amount of the grant award will be paid to the State or, if designated by the State representative, the State veterans' cemetery for which such project is being carried out, or any other State agency or instrumentality. Such amount shall be paid by way of reimbursement, and in such installments consistent with the progress of the project, as the Director of State Cemetery Grants Service may determine and certify for payment to the appropriate Federal institution. Funds paid under this section for an approved project shall be used solely for carrying out such project as so approved. As a condition for the final payment, the State representative must submit to VA the following:

(a) Standard Form 271 (“Outlay Report and Request for Reimbursement for Construction Programs”) (The form is set forth at § 39.26(a)).

(b) A request in writing for the final architectural/engineering inspection, including the name and telephone number of the local point of contact for the project;

(c) The written statement “It is hereby agreed that the monetary commitment of the federal government will have been met and the project will be considered terminated upon payment of this voucher,” and

(d) Evidence that the State has met its responsibility for an audit under the Single Audit Act of 1984 (31 U.S.C. 7501 et seq.) and § 39.19, if applicable.

(Authority: 38 U.S.C. 501, 2408.)

(The Office of Management and Budget has approved the information collection requirements in this section under control number 0348-0002.)

§ 39.18 Recapture provisions.

(a) If a State which has received a grant to establish, expand, or improve a veterans' cemetery ceases to own such cemetery, ceases to operate such cemetery as a veterans' cemetery in accordance with § 39.5(a), or uses any part of the funds provided through such grant for a purpose other than that for which the grant was made, the United States shall be entitled to recover from the State the total of all grants made to the State in connection with the establishment, expansion or improvement of such cemetery.

(b) If all funds from a grant have not been used by a State for the purpose for which the grant was made within 3 years after the VA has certified the approved application for such grant to the Department of the Treasury, the United States shall be entitled to recover any unused grant funds from the State.

(Authority: 38 U.S.C. 501, 2408.)

Subpart D—Standards and Requirements for Project

§ 39.19 General requirements for site selection and construction of veterans' cemeteries.

(a) The various codes, requirements, and recommendations of State and local authorities or technical and professional organizations, to the extent and manner in which those codes, requirements, and recommendations are referenced in this subpart, are applicable to grants for construction of veterans' cemeteries. Additional information concerning these codes, requirements, and recommendations may be obtained from the Department of Veterans Affairs, National Cemetery Administration, 810 Vermont Avenue, NW., Washington, DC 20420.

(b) The standards in §§ 39.19 through 39.22 constitute general design and construction criteria and shall apply to all projects for which Federal assistance is requested under 38 U.S.C. 2408.

(c) In developing these standards, no attempt has been made to comply with all of the various State and local codes and regulations. The standards contained in §§ 39.19 through 39.22 shall be followed where they exceed State or local codes and regulations. Departure will be permitted, however, when alternate standards are demonstrated to provide equivalent or better design criteria than the standards in these sections. Conversely, compliance is required with State and local codes where such requirements provide a standard higher than those in these sections. The additional cost, if any, in using standards that are higher than those of VA should be documented and justified in the application.

(d) The space criteria and area requirements referred to in these standards shall be used as a guide in planning. Additional area and facilities beyond those specified as basic may be included if found to be necessary to meet the functional requirements of the project but are subject to approval by VA. Substantial deviation from the space or area standards shall be carefully considered and justified. Failing to meet the standards or exceeding them by more than 10 percent in the completed plan would be regarded as evidence of inferior design or as exceeding the boundaries of professional requirements. In those projects that unjustifiably exceed maximum space or area criteria, VA funding may be subject to proportionate reduction in proportion to the amount by which the space or area of the cemetery exceeds the maximum specified in these standards.

(Authority: 38 U.S.C. 501, 2408.)

§ 39.20 Site planning standards.

(a) Site selection—(1) Location. The land should be located as close as possible to the densest veteran population in the area under consideration.

(2) Size. Sufficient acreage shall be available to provide gravesites for estimated needs for at least 20 years. More acreage should be provided where feasible. Acreage could vary depending on the State veteran population and national cemetery availability.

(3) Accessibility. The site should be readily accessible by highway. Offsite improvements shall not be funded by the grant.

(4) Topography. The land should range from comparatively level to rolling and moderately hilly terrain. Natural rugged contours are suitable only if development and maintenance costs would not be excessive and burial areas would be accessible to elderly or infirm visitors. The land shall not be subject to flooding.

(5) Water table. The water table should be lower than the maximum proposed depth of burial.

(6) Soil requirements. The soil should be free from rock, muck, unstable composition, and other materials that would hamper the economical excavation of graves by normal methods. In general, the soil should meet the standards of good agricultural land that is capable of supporting turf and trees, with normal care and without the addition of topsoil.

(7) Utilities. Electricity and gas, if required, should be available. Offsite improvements shall not be funded by the grant.

(8) Water supply. An adequate supply of water should be available. Offsite improvements shall not be funded by the grant.

(9) Sewerage. An approved means to dispose of storm flow and sewage from the facility should be available. Offsite improvements shall not be funded by the grant.

(b) Site development requirements—(1) General. The development plan shall provide for adequate hard surfaced roads, walks, parking areas, public rest rooms, flag circle, and a main gate.

(2) Parking. All parking facilities shall include provisions to accommodate the physically handicapped. A minimum of one space shall be set aside and identified with signage in each parking area with additional spaces provided in the ratio of 1 handicapped space to every 20 regular spaces. Handicapped spaces shall not be placed between two conventional diagonal or head-on parking spaces. Each of the handicapped parking spaces shall not be less than 9 feet wide; in addition, a clear space 4 feet wide shall be provided between the adjacent conventional parking spaces and also on the outside of the end spaces. Parking is not provided for large numbers of people attending ceremonial events such as Memorial Day services.

(3) Roads. Roads should generally follow the topography of the cemetery, and allow pedestrian access to burial sections on both sides. Roads should generally not be used as “boundaries” outlining burial sections. Extensive bridging should be avoided. The grant program funding cannot be used to build access roads on property that is not part of the cemetery. Road widths shall be compatible with proposed traffic flows and volumes. Primary roads are generally 24 feet wide.

(4) Pavement design. The pavement section of all roads, service areas and parking areas shall be designed for the maximum anticipated traffic loads and existing soil conditions and in accordance with local and State design criteria.

(5) Curbs. Bituminous roads may be provided with integral curbs and gutters constructed of portland cement concrete. Freestanding curbs may be substituted when the advantage of using them is clearly indicated. All curbs shall have a “roll-type” cross section for vehicle and equipment access to lawn areas except as may be necessary for traffic control. The radii of curbs at road intersections shall not be less than 20 feet-0 inches. Curb ramps shall be provided to accommodate the physically handicapped and maintenance equipment. Curb ramps shall be provided at all intersections of roads and walks. The curb ramps shall not be less than 4 feet wide; they shall not have a slope greater than 8 percent, and preferably not greater than 5 percent. The vertical angle between the surface of a curb ramp and the surface of a road or gutter shall not be less than 176 degrees; the transition between the two surfaces shall be smooth. Curb ramps shall have nonskid surfaces.

(6) Walks. Walks shall be designed with consideration for the physically handicapped and elderly. Walks and ramps designed on an incline shall have periodic level platforms. All walks, ramps and platforms shall have nonskid surfaces. Any walk shall be ramped if the slope exceeds 3 percent. Walks that have gradients from 2 to 3 percent shall be provided with level platforms at 200-foot intervals and at intersections with other walks. Ramps shall not have a slope greater than 8 percent, and preferably not greater than 5 percent. The ramps shall have handrails on both sides unless other protective devices are provided; every handrail shall have clearance of not less than 1½ inches between the back of the handrail and the wall or any other vertical surface behind it. Ramps shall not be less than 4 feet wide between curbs; curbs shall be provided on both sides. The curbs shall not be less than 4 inches high and 4 inches wide. A level platform in a ramp shall not be less than the full width of the ramp and not less than 5 feet long. Entrance platforms and ramps shall be provided with protective weather barriers to shield them against hazardous conditions resulting from inclement weather.

(7) Steps. Exterior steps may be included in the site development as long as provisions are also provided for use by physically handicapped persons.

(8) Grading. Minimum lawn slopes shall be 2 percent; critical spot grade elevations shall be shown on the contract drawings. Insofar as practicable, lawn areas shall be designed without steep slopes.

(9) Landscaping. The landscaping plan should provide for a park-like setting of harmonious open spaces balanced with groves of indigenous and cultivated deciduous and evergreen trees. Shrubbery should be kept to a minimum. Steep slopes that are unsuitable for interment areas should be kept in their natural state.

(10) Surface drainage. Surface grades shall be determined in coordination with the architectural, structural and mechanical design of buildings and facilities so as to provide proper surface drainage.

(11) Burial areas. A site plan of the cemetery shall include a burial layout. If appropriate, the burial layout should reflect the phases of development in the various sections. The first phase of construction should contain sufficient burial sites to meet the foreseeable demand for at least 10 years. All applicable dimensions to roadways, fences, utilities or other structures shall be indicated on the layout.

(12) Gravesites. Gravesites shall be laid out in uniform pattern. There shall be a minimum of 10 feet from the edge of roads and drives and a minimum of 20 feet from the boundaries or fence lines. Maximum distance from the edge of a permanent road to any gravesite shall not be over 275 feet. Temporary roads may be provided to serve areas in phase developments.

(13) Monumentation. Each grave shall be marked with an appropriate marker and each cemetery shall maintain a register of burials setting forth the name of each person buried and the designation of the grave in which he/she is buried. Permanent gravesite control markers shall be installed based on a grid system throughout the burial area unless otherwise specified. This will facilitate the gravesite layout, placement of utility lines, and alignment of headstones.

(14) Entrance. The entrance should be an architectural or landscape feature that creates a sense of arrival.

(15) Memorial walkway. Each cemetery should have an area for the display of memorials donated by veterans groups and others. Such areas may take the form of a path or walkway and should provide a contemplative setting for visitors.

(16) Donation items. Family members and others often wish to donate items such as benches and trees. Acceptable items of donation should be specified in the cemetery plan. The plan should also designate appropriate locations for such items.

(17) Flag/assembly area. There shall be one primary flagpole for the United States flag. This flag shall be lighted. A turf assembly area should be developed for major gatherings such as Memorial Day. The assembly area may be focused on the flag. The area may also incorporate an architectural or a landscape feature that functions as a platform or backdrop for speakers.

(18) Site furnishings. Site furnishings include signage, trash receptacles, benches, and flower containers. These items should be coordinated and complement each other, the architectural design and the cemetery as a whole. They should be simple, durable, standardized and properly scaled.

(19) Carillons. The cemetery development plan should include a location for a carillon tower. Carillons are normally donated. They are not provided for in the grant.

(Authority: 38 U.S.C. 501, 2408.)

§ 39.21 Space criteria for support facilities.

These criteria are based on a projected average burial rate of one to six per day, staffing by position, and a defined complement of maintenance and service equipment. For cemeteries with less than one or more than six burials per day, support facilities are considered on an individual basis in accordance with § 39.19(d). In converting Net Square Feet (NSF) to Gross Square Feet (GSF), a conversion factor of 1.5 is the maximum allowed. The applicant shall, in support of the design, include the following as an attachment to the application: a list of all grounds maintenance supplies and equipment and the number of Full Time Employees (FTE) by job assignment for the next 10 years.

(a) Administrative building. The administrative building should be approximately 1,600 NSF in total, providing space, as needed, for the following functions:

(1) Cemetery director's office;

(2) Other offices (as needed);

(3) Administrative staff (lobby/office area);

(4) Operations (file/office/equipment/work area);

(5) Family/conference room;

(6) Military honors team;

(7) Refreshment unit;

(8) Housekeeping aide's closet; and

(9) Restroom facilities.

(b) Maintenance/service building. The maintenance/service building may be combined with the administrative building. The maintenance/service building should be approximately 2,200 NSF in total, providing heated and air conditioned space, as needed, for the following functions:

(1) Foreman's office;

(2) Lunch room;

(3) Kitchen unit;

(4) Toilet and locker room facilities;

(5) Housekeeping aide's closet; and

(6) Vehicle and equipment maintenance and storage.

(c) Vehicle and equipment storage. Approximately 275 NSF/Bay as needed. Not all types of vehicles and equipment require storage in heated space. Based on climatic conditions, it may be justified to rely completely on open structures rather than heated structures to protect the following types of vehicles and equipment: Dump Trucks, Pickup Trucks, Cemetery Automobiles, Gang and Circular Mowers.

(d) Interment/committal service shelter. One permanent shelter is authorized for every five interments per day. The shelter may include a covered area to provide seating for approximately 20 people and an uncovered paved area to provide space for approximately 50 additional people. The shelter may also include a small, enclosed equipment/storage area. Provisions must be made for the playing of Taps by recorded means.

(e) Public Information Center. One permanent Public Information Center is authorized per facility. A Public Information Center is used to provide orientation to visitors and funeral corteges. It should include the gravesite locator. The public restrooms may also be combined with this structure. Space determinations for separate structures for public restrooms shall be considered on an individual basis. The Public Information Center, including public restrooms, may be combined with the administrative building.

(f) Other interment structures. Space determinations for other support facilities such as columbaria, preplaced graveliners (or crypts), garden niches, etc., will be considered on an individual basis in accordance with § 39.19(d).

(Authority: 38 U.S.C. 501, 2408.)

§ 39.22 Architectural design standards.

The publications listed in this section are incorporated by reference. The Director of the Federal Register approves this incorporation by reference in accordance with 5 U.S.C. 552(a) and 1 CFR part 51. Copies of these publications may be inspected at the office of the State Cemetery Grants Service, National Cemetery Administration, Department of Veterans Affairs, 810 Vermont Avenue, NW., Washington, DC 20420 or at the Office of the Federal Register, 800 North Capitol Street, NW., Suite 700, Washington, DC. Copies of the 2003 edition of the National Fire Protection Association Life Safety Code and Errata (NFPA 101), the 2003 edition of the NFPA 5000, Building Construction and Safety Code, and the 2002 edition of the National Electrical Code, NFPA 70, may be obtained from the National Fire Protection Association, Inc. (NFPA), 1 Batterymarch Park, P.O. Box 9101, Quincy, MA 02269-9101. Copies of the 2003 edition of the Uniform Mechanical Code, and the 2003 edition of the Uniform Plumbing Code, may be obtained from the International Association of Plumbing and Mechanical Officials, 5001 E. Philadelphia Street, Ontario, CA 91761-2816.

(a) Architectural and structural requirements—(1) Life Safety Code. Standards must be in accordance with the 2003 edition of the National Fire Protection Association Life Safety Code, NFPA 101. Fire safety construction features not included in NFPA 101 shall be designed in accordance with the requirements of the 2003 edition of the NFPA 5000, Building Construction and Safety Code. Where the adopted codes state conflicting requirements, the NFPA National Fire Codes shall govern.

(2) State and local codes. In addition to compliance with the standards set forth in this section, all applicable local and State building codes and regulations must be observed. In areas not subject to local or State building codes, the recommendations contained in the 2003 edition of the NFPA 5000, Building Construction and Safety Code shall apply.

(3) Occupational safety and health standards. Applicable standards as contained in the Occupational Safety and Health Act of 1970 (29 U.S.C. 651 et seq.) must be observed.

(b) Mechanical requirements. The heating system, boilers, steam system, ventilation system and air-conditioning system shall be furnished and installed to meet all requirements of the local and State codes and regulations. Where no local or State codes are in force, the 2003 edition of the Uniform Mechanical Code shall apply.

(c) Plumbing requirements. Plumbing systems shall comply with all applicable local and State codes, the requirements of the State Department of Health, and the minimum general standards as set forth in this part. Where no local or State codes are in force, the 2003 edition of the Uniform Plumbing Code shall apply.

(d) Electrical requirements. The installation of electrical work and equipment shall comply with all local and State codes and laws applicable to electrical installations and the minimum general standards, as set forth in the NFPA 70, National Electrical Code, 2002 edition (NEC 2002 Code). The regulations of the local utility company shall govern service connections. Aluminum bus ways shall not be used as a conducting medium in the electrical distribution system.

(Authority: 38 U.S.C. 501, 2408.)

Subpart E—Responsibilities, Inspections, and Reports Following Project Completion

§ 39.23 Responsibilities following project completion.

(a) States shall monitor use of the cemetery by various subgroups and minority groups, including women veterans. To the extent that under-utilization by any of these groups is determined to exist, a program shall be established to inform members of these groups about benefits available to them. The information regarding the benefits shall be available in a language other than English where a significant number or portion of the population eligible to be served or likely to be directly affected by the grant program needs such service or information.

(b) State veterans' cemeteries established, expanded, or improved with assistance under the grant program shall be operated and maintained as follows:

(1) Buildings, grounds, roads, walks, and other structures shall be kept in reasonable repair to prevent undue deterioration and hazards to users.

(2) The cemetery shall be kept open for public use at reasonable hours based on the time of the year.

(c) VA, in coordination with the State, shall inspect the project at completion for compliance with the standards set forth in §§ 39.19 through 39.22 and at least once in every 3-year period following completion of the project throughout the period the facility is operated as a State veterans' cemetery. A copy of the inspection report shall be forwarded to the Director, State Cemetery Grants Service, giving the date and location the inspection was made and citing any deficiencies and corrective action taken or proposed.

(d) Failure of a State to comply with any of paragraphs (a) through (c) of this section shall be considered cause for the Department of Veterans Affairs to suspend any payments due the State on any or all projects until the situation involved is corrected.

(Authority: 38 U.S.C. 501, 2408; and issued under authority of the President by E.O. 13166, 65 FR 50121)

§ 39.24 State to retain control of operations.

Neither the Secretary nor any employee of the Department of Veterans Affairs shall exercise any supervision or control over the administration, personnel, maintenance, or operation of any State veterans' cemetery established, expanded, or improved with assistance received under this program except as prescribed in this part.

(Authority: 38 U.S.C. 501, 2408.)

§ 39.25 Inspections, audits, and reports.

(a) A State will allow VA inspectors and auditors to conduct inspections as necessary to ensure compliance with the provisions of this part. The State will provide to VA evidence that it has met its responsibility under the Single Audit Act of 1984 (see part 41 of this chapter).

(b) A State will make an annual report on VA Form 40-0241 (“State Cemetery Data”) signed by the authorized representative of the State. These forms document current burial activity at the cemetery, use of gravesites, remaining gravesites, and additional operational information intended to answer questions about the status of the grant program.

(Authority: 38 U.S.C. 501, 2408.)

(The Office of Management and Budget has approved the information collection requirements in this section under control number 2900-0559.)

Subpart F—Forms

§ 39.26 Forms.

All forms set forth in this part are available on the Internet at http://www.va.gov/forms.

BILLING CODE 8320-01-P

(a) Standard Form 271—Outlay Report and Request for Reimbursement for Construction Programs

(Authority: 38 U.S.C. 501, 2408.)

(The Office of Management and Budget has approved the information collection requirements in this section under control number 0348-0002.)

BILLING CODE 8320-01-C

(b) Standard Form 424—Application for Federal Assistance.

(Authority: 38 U.S.C. 501, 2408)

(The Office of Management and Budget has approved the information collection requirements in this section under control number 0348-0041.)

BILLING CODE 8320-01-C

(c) Standard Form 424C—Instructions for the SF-424C.

(Authority: 38 U.S.C. 501, 2408.)

(The Office of Management and Budget has approved the information collection requirements in this section under control number 0348-0041.)

BILLING CODE 8320-01-C

(d) Standard Form 424D—Assurances—Construction Programs.

(Authority: 38 U.S.C. 501, 2408.)

(The Office of Management and Budget has approved the information collection requirements in this section under control number 0348-0042.)

BILLING CODE 8320-01-C

(e) VA Form 10-0148c—Certification Regarding Debarment, Suspension, and Other Responsibility Matters—Primary Covered Transactions.

(Authority: 38 U.S.C. 501, 2408.)

(f) VA Form 40-0241—State Cemetery Data.

(Authority: 38 U.S.C. 501, 2408.)

(The Office of Management and Budget has approved the information collection requirements in this section under control number 2900-0559.)

[FR Doc. 04-6532 Filed 3-26-04; 8:45 am]

BILLING CODE 8320-01-C